NATIONAL AERONAUTICS AND SPACE ADMINISTRATION

[Document Number: NASA-22-033; Docket Number: NASA-2022-0002]

National Environmental Policy Act; Mars Sample Return Campaign; Correction

AGENCY: National Aeronautics and Space Administration.

ACTION: Notice of intent; notice of meetings; request for comments; correction.

SUMMARY: The National Aeronautics and Space Administration (NASA) published a document in the Federal Register of April 15, 2022, concerning a notice of intent; notice of meetings; and request for comments. The document inadvertently omits the meeting number (access code) for the virtual public scoping meetings which is required for audio-only users to gain access to the meeting.

FOR FURTHER INFORMATION CONTACT: Mr. Steve Slaten, National Aeronautics and Space Administration, by electronic mail at Mars-sample-return-nepa@lists.nasa.gov or by telephone at 202-258-0016.

SUPPLEMENTARY INFORMATION: In the Federal Register of April 15, 2022, in FR Doc. 2022-08088, on page 22578, in the third column, correct the third sentence in the second paragraph of the DATES section from “The call-in number for audio-only users is: +1-510-210-8882” to read “The call-in number for audio-only users is: 1-510-210-8882 and the Meeting Number (access code) is 901-525-785.”

Nanette Smith,
Team Lead, NASA Directives and Regulations.

[FR Doc. 2022-08937 Filed 4-26-22; 8:45 am]

BILLING CODE 7510-13-P